DEPARTMENT OF HOUSING AND URBAN DEVELOPMENT

[Docket No. FR-5045-N-36]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Kathryn Halvorson, Director, Air Force Real Property Agency, 1700 North Moore St., Suite 2300, Arlington, VA 2209-2802; (703) 696-5532; Energy: Mr. John Watson, Department of Energy, Office of Engineering & Construction Management, ME-90, 1000 Independence Ave., SW., Washington, DC 20585: (202) 586-0072; GSA: Mr. John Kelly, Acting Deputy Assistant Commissioner, General Services Administration, Office of Property Disposal, 18th & F Streets, NW., Washington, DC 20405; (202) 501-0084; Interior: Ms. Linda Tribby, Acquisition & Property Management, Department of the Interior, 1849 C Street, NW., MS5512, Washington, DC 20240; (202) 513-0747; Navy: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: August 31, 2006.
Mark R. Johnston,
Acting Deputy Assistant Secretary for Special Needs.

XXX

TITLE V, FEDERAL SURPLUS PROPERTY PROGRAM FEDERAL REGISTER REPORT FOR 9/8/06

Suitable/Available Properties

Buildings (by State)

Alaska

Bldg. 7525

Elmendorf AFB

Elmendorf AFB AK 99506-

Landholding Agency: Air Force

Property Number: 18200230009

Status: Unutilized

Comment: 26,226 sq. ft., need rehab, possible asbestos/lead paint, most recent use—dormitory, off-site use only

Mai Residence

212 5th Avenue

Seward Co: AK 99664-

Landholding Agency: GSA

Property Number: 54200630010

Status: Excess

Comment: 1070 sq. ft., presence of asbestos/lead paint, off-site use only

GSA Number: 9-I-AK-805

Hawaii

Bldg. 849

Bellows AFS

Bellows AFS HI

Landholding Agency: Air Force

Property Number: 18200330008

Status: Unutilized

Comment: 462 sq. ft., concrete storage facility

Minnesota

Memorial Army Rsv Ctr

1804 3rd Avenue

International Falls Co: Koochiching MN 56649-

Landholding Agency: GSA

Property Number: 54200620002

Status: Excess

Comment: 8992 sq. ft., presence of asbestos/lead paint, most recent use—admin/storage

GSA Number: 1-D-MN-586

Missouri

Bldgs. 90A/B, 91A/B, 92A/B

Jefferson Barracks Housing

St. Louis MO 63125-

Landholding Agency: Air Force

Property Number: 18200220002

Status: Excess

Comment: 6450 sq. ft., needs repair, includes 2 acres

Montana

Border Patrol Station

906 Oilfield Avenue

Shelby Co: Toole MT 59474-

Landholding Agency: GSA

Property Number: 54200620010

Status: Excess

Comment: Bldg/1944 sq. ft.; garage/650 sq. ft.; shed/175 sq. ft.; potential asbestos/lead paint/radon

GSA Number: 7-Z-MT-0617

New Mexico

Federal Building

1100 New York Ave.

Alamogordo Co: Otero NM 88310-

Landholding Agency: GSA

Property Number: 54200630001

Status: Surplus

Comment: 12,690 sq. ft., subject to Historic preservation covenants, occupied until 9/30/08

GSA Number: 7-G-NM-0569

New York

Bldg. 240

Rome Lab

Rome Co: Oneida NY 13441-

Landholding Agency: Air Force

Property Number: 18200340023

Status: Unutilized

Comment: 39108 sq. ft., presence of asbestos, most recent use—Electronic Research Lab

Bldg. 247

Rome Lab

Rome Co: Oneida NY 13441-

Landholding Agency: Air Force

Property Number: 18200340024

Status: Unutilized

Comment: 13199 sq. ft., presence of asbestos, most recent use—Electronic Research Lab

Bldg. 248

Rome Lab

Rome Co: Oneida NY 13441-

Landholding Agency: Air Force

Property Number: 18200340025

Status: Unutilized

Comment: 4000 sq. ft., presence of asbestos, most recent use—Electronic Research Lab

Bldg. 302

Rome Lab

Rome Co: Oneida NY 13441-

Landholding Agency: Air Force

Property Number: 18200340026

Status: Unutilized

Comment: 10288 sq. ft., presence of asbestos, most recent use—communications facility

Fleet Mgmt. Center

5—32nd Street

Brooklyn Co: NY 11232-

Landholding Agency: GSA

Property Number: 54200620015

Status: Surplus

Comment: 12,693 sq. ft., most recent use—motor pool, heavy industrial

GSA Number: 1-G-NY-0872B

8 Family Apt. Bldgs.

Watervliet Arsenal Housing

325 Duanesburg Road

Rotterdam Co: Schenectady NY

Landholding Agency: GSA

Property Number: 54200630011

Status: Excess

Comment: 8 multi family apt. bldgs. w/garages and 1 maintenance shop, presence of asbestos/lead paint

GSA Number: 1-D-NY-0877

2 Residential Bldgs.

Watervliet Arsenal Housing

1138, 1134, 1132 North Westcott Rd.

Rotterdam Co: Schenectady NY

Landholding Agency: GSA

Property Number: 54200630012

Status: Excess

Comment: 2 residential bldgs. (one duplex/one single), each unit has one garage, shared driveway

GSA Number: 1-D-NY-877

North Dakota

Residence #1

Hwy 30/Canadian Border

St. John Co: Rolette ND 58369-

Landholding Agency: GSA

Property Number: 54200620005

Status: Excess

Comment: 1300 sq. ft., possible asbestos/lead paint, off-site use only

GSA Number: 7-G-ND-0504

Residence #2

Hwy 30/Canadian Border

St. John Co: Rolette ND 58369-

Landholding Agency: GSA

Property Number: 54200620006

Status: Excess

Comment: 1300 sq. ft., possible asbestos/lead paint, off-site use only

GSA Number: 7-G-ND-0505

Residence #1

Hwy 281/Canadian Border

Dunseith Co: Rolette ND 58329-

Landholding Agency: GSA

Property Number: 54200620007

Status: Excess

Comment: 1640 sq. ft. bldg and garage, possible asbestos/lead paint, off-site use only

GSA Number: 7-G-ND-0508

Residence #2

Hwy 281/Canadian Border

Dunseith Co: Rolette ND 58329-

Landholding Agency: GSA

Property Number: 54200620008

Status: Excess

Comment: 1490 sq. ft., attached garage, possible asbestos/lead paint, off-site use only

GSA Number : 7-G-ND-0507

Residence #3

Hwy 281/Canadian Border

Dunseith Co: Rolette ND 58329-

Landholding Agency: GSA

Property Number: 54200620009

Status: Excess

Comment: 1490 sq. ft., attached garage, possible asbestos/lead paint, off-site use only

GSA Number : 7-G-ND-0506

Residence #1

Hwy 42/Canadian Border

Ambrose Co: Divide ND 58833-

Landholding Agency: GSA

Property Number: 54200620012

Status: Excess

Comment: 2010 sq. ft., possible lead paint, most recent use—residential/office/storage, off site use only

GSA Number: 7-G-ND-0510

Residence #2

Hwy 42/Canadian Border

Ambrose Co: Divide ND 58833-

Landholding Agency:GSA

Property Number: 54200620013

Status: Excess

Comment: 2010 sq. ft., possible lead paint, most recent use—residential/office/storage, off site use only

GSA Number: 7-G-ND-0509

Sherwood Garage

Hwy 28

Sherwood Co: Renville ND 58782-

Landholding Agency: GSA

Property Number: 54200630002

Status: Surplus

Comment: 565 sq. ft., off-site use only

GSA Number: 7-G-ND-0512

Noonan Garage

Hwy 40

Noonan Co: Divide ND 58765-

Landholding Agency: GSA

Property Number: 54200630003

Status: Surplus

Comment: 520 sq. ft., presence of asbestos, off-site use only

GSA Number: 7-G-ND-0511

Westhope Garage

Hwy 83

Westhope Co: Bottineau ND 58793-

Landholding Agency: GSA

Property Number: 54200630004

Status: Surplus

Comment: 515 sq. ft., off-site use only

GSA Number: 7-G-ND-0513

Oklahoma

Warehouse 2E

2800 S. Eastern Ave.

Oklahoma City Co: OK 73129-

Landholding Agency: GSA

Property Number: 54200630005

Status: Surplus

Comment: 5618 sq. ft., presence of asbestos/lead paint, most recent use—warehouse, off-site use only

GSA Number: 7-G-OK-0572

South Carolina

4 Bldgs.

Charleston AFB

N. Charleston Co: SC 29404-

Location: 2314A/B, 2327A/B, 2339A/B, 2397A/B

Landholding Agency: Air Force

Property Number: 18200430025

Status: Excess

Comment: 2722 sq. ft., presence of asbestos/lead paint, most recent use—residential, off-site use only

4 Bldgs.

Charleston AFB

N. Charleston Co: SC 29404-

Location: 2315A/B, 2323A/B, 2330A/B, 2387A/B

Landholding Agency: Air Force

Property Number: 18200430027

Status: Excess

Comment: 2756 sq. ft., presence of asbestos/lead paint, most recent use—residential, off-site use only

3 Bldgs.

Charleston AFB

N. Charleston Co: SC 29404-

Location: 2321A/B, 2326A/B, 2336A/B

Landholding Agency: Air Force

Property Number: 18200430028

Status: Excess

Comment: 2766 sq. ft., presence of asbestos/lead paint, most recent use—residential, off-site use only

Bldg. 2331A /B

Charleston AFB

N. Charleston Co: SC 29494-

Landholding Agency: Air Force

Property Number: 18200430029

Status: Excess

Comment: 2803 sq. ft., presence of asbestos/lead paint, most recent use—residential, off-site use only

Bldg. 2341A/B

Charleston AFB

N. Charleston Co: SC 29404-

Landholding Agency: Air Force

Property Number: 18200430030

Status: Excess

Comment: 2715 sq. ft., presence of asbestos/lead paint, most recent use—residential, off-site use only

11 Bldgs.

Charleston AFB

Floor Plan G6

N. Charleston Co: SC 29404-

Landholding Agency: Air Force

Property Number: 18200430042

Status: Excess

Comment: 1390 sq. ft., presence of asbestos/lead paint, most recent use—residential, off-site use only

9 Bldgs.

Charleston AFB

Floor Plan GV

N. Charleston Co: SC 29404-

Landholding Agency: Air Force

Property Number: 18200430043

Status: Excess

Comment: 1390 sq. ft., presence of asbestos/lead paint, most recent use—residential, off-site use only

8 Bldgs.

Charleston AFB

Floor Plan H6

N. Charleston Co: SC 29404-

Landholding Agency: Air Force

Property Number: 18200430044

Status: Excess

Comment: 1396 sq. ft., presence of asbestos/lead paint, most recent use—residential, off-site use only

Bldgs. 1841A/B, 1849A/B

Charleston AFB

N. Charleston Co: SC 29404-

Landholding Agency: Air Force

Property Number: 18200430045

Status: Excess

Comment: 2249 sq. ft., presence of asbestos/lead paint, most recent use—residential, off-site use only

9 Bldgs.

Charleston AFB

Floor Plan I6

N. Charleston Co: SC 29404-

Landholding Agency: Air Force

Property Number: 18200430046

Status: Excess

Comment: 1400 sq. ft., presence of asbestos/lead paint, most recent use—residential, off-site use only

7 Bldgs.

Charleston AFB

Floor Plan IV

N. Charleston Co: SC 29404-

Landholding Agency: Air Force

Property Number: 18200430047

Status: Excess

Comment: 1400 sq. ft., presence of asbestos/lead paint, most recent use—residential, off-site use only

4 Bldgs.

Charleston AFB

N. Charleston Co: SC 29404-

Location: 1846A/B, 1853A/B, 1862A/B, 2203A/B

Landholding Agency: Air Force

Property Number: 18200430048

Status: Excess

Comment: 2363 sq. ft., presence of asbestos/lead paint, most recent use—residential, off-site use only

Bldg. 1828A/B

Charleston AFB

N. Charleston Co: SC 29404-

Landholding Agency: Air Force

Property Number: 18200430052

Status: Excess

Comment: 2330 sq. ft., presence of asbestos/lead paint, most recent use—residential, off-site use only

Land (by State)

Pennsylvania

18.8 acres

Tract 19

Curwensville Lake Project

Clearfield Co: PA

Landholding Agency: GSA

Property Number: 54200630007

Status: Excess

Comment: heavily wooded/undeveloped/limited access

GSA Number : 4-D-PA-0801

South Dakota

S. Nike Ed. Annex Land

Ellsworth AFB

Pennington SD 57706-

Landholding Agency: Air Force

Property Number: 18200220010

Status: Unutilized

Comment: 7 acres w/five foundations from demolished bldgs. remain on site; with a road and a parking lot

Tennessee

Army Rsv Training Area

6510 Bonny Oaks Dr.

Chattanooga Co: Hamilton TN 37416-

Landholding Agency: GSA

Property Number: 54200630006

Status: Surplus

Comment: 80-110 acres, contains 5.6 acre retention pond, easements present, may flood periodically

GSA Number: 4-D-TN-05946A

Suitable/Unavailable Properties

Buildings (by State)

California

Social Security Building

505 North Court Street

Visalia Co: Tulare CA 93291-

Landholding Agency: GSA

Property Number: 54200610010

Status: Surplus

Comment: 11,727 sq. ft., possible lead paint, most recent use—office

GSA Number: 9-G-CA-1643

Colorado

Bldg. 100

La Junta Strategic Range

La Junta Co: Otero CO 81050-9501

Landholding Agency: Air Force

Property Number: 18200230001

Status: Excess

Comment: 7760 sq. ft., most recent use—admin/electronic equip. maintenance

Bldg. 101

La Junta Strategic Range

La Junta Co: Otero CO 81050-9501

Landholding Agency: Air Force

Property Number: 18200230002

Status: Excess

Comment: 336 sq. ft., most recent use—storage

Bldg. 102

La Junta Strategic Range

La Junta Co: Otero CO 81050-9501

Landholding Agency: Air Force

Property Number: 18200230003

Status: Excess

Comment: 1056 sq. ft., most recent use—storage

Bldg. 103

La Junta Strategic Range

La Junta Co: Otero CO 81050-9501

Landholding Agency: Air Force

Property Number: 18200230004

Status: Excess

Comment: 784 sq. ft., most recent use—storage

Bldg. 104

La Junta Strategic Range

La Junta Co: Otero CO 81050-9501

Landholding Agency: Air Force

Property Number: 18200230005

Status: Excess

Comment: 312 sq. ft., most recent use—storage

Bldg. 106

La Junta Strategic Range

La Junta Co: Otero CO 81050-9501

Landholding Agency: Air Force

Property Number: 18200230006

Status: Excess

Comment: 100 sq. ft., most recent use—storage

Illinois

SSA Federal Building

1530 4th Street

Peru Co: IL 61354-

Landholding Agency: GSA

Property Number: 54200540012

Status: Excess

Comment: 6007 sq. ft., most recent use—office/storage

GSA Number: 1-G-IL-732

Minnesota

Lakes Project Office

307 Main Street East

Remer Co: Cass MN

Landholding Agency: GSA

Property Number: 54200410015

Status: Surplus

Comment: Office bldg/oil shed/maintenance garage, minor water damage

GSA Number: 5-D-MN-548-A

Nevada

Young Fed Bldg/Courthouse

300 Booth Street

Reno Co: NV 89502-

Landholding Agency: GSA

Property Number: 54200620014

Status: Surplus

Comment: 85,637 sq. ft. available, presence of asbestos/lead paint, seismic issues

GSA Number: 9-G-NV-529-2

New Mexico

Federal Building

517 Gold Avenue, SW

Albuquerque Co: Bernalillo NM 87102-

Landholding Agency: GSA

Property Number: 54200540005

Status: Excess

Comment: 273,027 sq. ft., 8 floors + basement, top two floors structurally unsafe to occupy, 3 additional floors do not meet local code requirements for occupancy, presence of asbestos/lead paint

GSA Number: 7-G-NM-0588

New York

Bldg. 1225

Verona Text Annex

Verona Co: Oneida NY 13478-

Landholding Agency: Air Force

Property Number: 18200220014

Status: Unutilized

Comment: 3865 sq. ft., needs repair, presence of asbestos/lead paint, most recent use—research lab

Bldg. 1226

Verona Test Annex

Verona Co: Oneida NY 13478-

Landholding Agency: Air Force

Property Number: 18200220015

Status: Unutilized

Comment: 7500 sq. ft., most recent use—storage

Bldg. 1227

Verona Text Annex

Verona Co: Oneida NY 13478-

Landholding Agency: Air Force

Property Number: 18200220016

Status: Unutilized

Comment: 1152 sq. ft., presence of asbestos/lead paint, most recent use—power station

Bldg. 1231

Verona Test Annex

Verona Co: Oneida NY 13478-

Landholding Agency: Air Force

Property Number: 18200220017

Status: Unutilized

Comment: 3865 sq. ft., presence of asbestos/lead paint/volatile organic compounds, access requirements, most recent use—research lab

Bldg. 1233

Verona Test Annex

Verona Co: Oneida NY 13478-

Landholding Agency: Air Force

Property Number: 18200220018

Status: Unutilized

Comment: 1152 sq. ft., needs repair, presence of asbestos/lead paint/volatile organic compounds, access requirements, most recent use—power station

Bldgs. 1235, 1239

Verona Test Annex

Verona Co: Oneida NY 13478-

Landholding Agency: Air Force

Property Number: 18200220019

Status: Unutilized

Comment: 144/825 sq. ft., need repairs, presence of lead paint, most recent use—electric switch station

Bldg. 1241

Verona Test Annex

Verona Co: Oneida NY 13478-

Landholding Agency: Air Force

Property Number: 18200220020

Status: Unutilized

Comment: 159 sq. ft., presence of lead paint, most recent use—sewage pump station

Bldg. 1243

Verona Test Annex

Verona Co: Oneida NY 13478-

Landholding Agency: Air Force

Property Number: 18200220021

Status: Unutilized

Comment: 25 sq. ft., most recent use—waste treatment

Bldg. 1245

Verona Test Annex

Verona Co: Oneida NY 13478-

Landholding Agency: Air Force

Property Number: 18200220022

Status: Unutilized

Comment: 3835 sq. ft., needs repair, presence of asbestos/lead paint, most recent use—research lab

Bldg. 1247

Verona Test Annex

Verona Co: Oneida NY 13478-

Landholding Agency: Air Force

Property Number: 18200220023

Status: Unutilized

Comment: 576 sq. ft., needs repair, presence of asbestos/lead paint, most recent use—power station

Bldg. 1250 + land

Verona Test Annex

Verona Co: Oneida NY 13478-

Landholding Agency: Air Force

Property Number: 18200220024

Status: Unutilized

Comment: 11,766 sq. ft. offices/lab with 495 acres, presence of asbestos/lead paint/wetlands

Bldg. 1253

Verona Test Annex

Verona Co: Oneida NY 13478-

Landholding Agency: Air Force

Property Number: 18200220025

Status: Unutilized

Comment: 3835 sq. ft., needs repair, presence of asbestos/lead paint/volatile organic compounds, access requirements, most recent use—research lab

Bldg. 1255

Verona Test Annex

Verona Co: Oneida NY 13478-

Landholding Agency: Air Force

Property Number: 18200220026

Status: Unutilized

Comment: 576 sq. ft., needs repair, presence of lead paint/volatile organic compounds, access requirement, most recent use—power station

Bldg. 1261

Verona Test Annex

Verona Co: Oneida NY 13478-

Landholding Agency: Air Force

Property Number: 18200220027

Status: Unutilized

Comment: 3835 sq. ft., needs repair, presence of asbestos/lead paint, most recent use—research lab

Bldg. 1263

Verona Test Annex

Verona Co: Oneida NY 13478-

Landholding Agency: Air Force

Property Number: 18200220028

Status: Unutilized

Comment: 576 sq. ft. needs repair, presence of lead paint, most recent use—power station

Bldgs. 1266, 1269

Verona Test Annex

Verona Co: Oneida NY 13478-

Landholding Agency: Air Force

Property Number: 18200220029

Status: Unutilized

Comment: 3730/3865 sq. ft., need repairs, presence of asbestos/lead paint, most recent use—research lab

Bldg. 1271

Verona Test Annex

Verona Co: Oneida NY 13478-

Landholding Agency: Air Force

Property Number: 18200220030

Status: Unutilized

Comment: 1152 sq. ft., needs repair, presence of lead paint, most recent use—power station

Bldg. 1273

Verona Test Annex

Verona Co: Oneida NY 13478-

Landholding Agency: Air Force

Property Number: 18200220031

Status: Unutilized

Comment: 87 sq. ft., presence of asbestos, most recent use—sewage pump station

Bldg. 1277

Verona Test Annex

Verona Co: Oneida NY 13478-

Landholding Agency: Air Force

Property Number: 18200220032

Status: Unutilized

Comment: 3865 sq. ft., needs repair, presence of asbestos/lead paint, most recent use—research lab

Bldg. 1279

Verona Test Annex

Verona Co: Oneida NY 13478-

Landholding Agency: Air Force

Property Number: 18200220033

Status: Unutilized

Comment: 1152 sq. ft., needs repair, presence of lead paint, most recent use—power station

Bldg. 1285

Verona Test Annex

Verona Co: Oneida NY 13478-

Landholding Agency: Air Force

Property Number: 18200220034

Status: Unutilized

Comment: 4690 sq. ft., needs repair, presence of asbestos/lead paint, most recent use—research lab

Bldg. 1287

Verona Test Annex

Verona Co: Oneida NY 13478-

Landholding Agency: Air Force

Property Number: 18200220035

Status: Unutilized

Comment: 1152 sq. ft., needs repair, presence of lead paint, most recent use—power station

Social Sec. Admin. Bldg.

517 N. Barry St.

Olean NY 10278-0004

Landholding Agency: GSA

Property Number: 54200230009

Status: Excess

Comment: 9174 sq. ft., poor condition, most recent use—office

GSA Number: 1-G-NY-0895

North Carolina

Ft. Johnston Family

Housing Area

E. Moore/Ft. Johnston Place

Southport Co: Brunswick NC 28461-

Landholding Agency: GSA

Property Number: 54200610012

Status: Excess

Comment: 7994 sq. ft. includes residence, duplexes, tennis courts, service bldg., garage, present of asbestos/lead paint, National Register of Historic Places

GSA Number: 4-D-NC-0748

Washington

22 Bldgs./Geiger Heights

Fairchild AFB

Spokane WA 99224-

Landholding Agency: Air Force

Property Number: 18200420001

Status: Unutilized

Comment: 1625 sq. ft., possible asbestos/lead paint, most recent use—residential

Bldg. 404/Geiger Heights

Fairchild AFB

Spokane WA 99224-

Landholding Agency: Air Force

Property Number: 18200420002

Status: Unutilized

Comment: 1996 sq. ft., possible asbestos/lead paint, most recent use—residential

11 Bldgs./Geiger Heights

Fairchild AFB

Spokane WA 99224-

Landholding Agency: Air Force

Property Number: 18200420003

Status: Unutilized

Comment: 2134 sq. ft., possible asbestos/lead paint, most recent use—residential

Bldg. 297/Geiger Heights

Fairchild AFB

Spokane WA 99224-

Landholding Agency: Air Force

Property Number: 18200420004

Status: Unutilized

Comment: 1425 sq. ft., possible asbestos/lead paint, most recent use—residential

9 Bldgs./Geiger Heights

Fairchild AFB

Spokane WA 99224-

Landholding Agency: Air Force

Property Number: 18200420005

Status: Unutilized

Comment: 1620 sq. ft., possible asbestos/lead paint, most recent use—residential

22 Bldgs./Geiger Heights

Fairchild AFB

Spokane WA 99224-

Landholding Agency: Air Force

Property Number: 18200420006

Status: Unutilized

Comment: 2850 sq. ft., possible asbestos/lead paint, most recent use—residential

51 Bldgs./Geiger Heights

Fairchild AFB

Spokane WA 99224-

Landholding Agency: Air Force

Property Number: 18200420007

Status: Unutilized

Comment: 2574 sq. ft., possible asbestos/lead paint, most recent use—residential

Bldg. 402/Geiger Heights

Fairchild AFB

Spokane WA 99224-

Landholding Agency: Air Force

Property Number: 18200420008

Status: Unutilized

Comment: 2451 sq. ft., possible asbestos/lead paint, most recent use—residential

5 Bldgs./Geiger Heights

Fairchild AFB 222, 224, 271, 295, 260

Spokane WA 99224-

Landholding Agency: Air Force

Property Number: 18200420009

Status: Unutilized

Comment: 3043 sq. ft., possible asbestos/lead paint, most recent use—residential

5 Bldgs./Geiger Heights

Fairchild AFB 102, 183, 118, 136, 113

Spokane WA 99224-

Landholding Agency: Air Force

Property Number: 18200420010

Status: Unutilized

Comment: 2599 sq. ft., possible asbestos/lead paint, most recent use—residential

Land (by State)

Indiana

Tanner's Creek

Access Site off Rt. 50

Lawrenceburg Co: IN

Landholding Agency: GSA

Property Number: 54200430022

Status: Excess

Comment: 8.45 acres, boat launch, flowage easement

GSA Number: 1-D-IN-571-C

Maryland

Railroad

Indian Head

White Plains Co: Charles MD

Landholding Agency: GSA

Property Number: 54200610006

Status: Excess

Comment: 160.01 acres containing railroad track 13.39 miles long and 100 feet wide with 6 railroad cars, easements present, adjacent to wetlands

GSA Number: 4-N-MD-0617

Michigan

IOM Site

Chesterfield Road

Chesterfield Co: Macomb MI

Landholding Agency: GSA

Property Number: 54200340008

Status: Excess

Comment: Approx. 17.4 acres w/concrete block bldg. in poor condition, most recent use—radio antenna field, narrow right-of-way

GSA Number: 1-D-MI-0603F

Lots 2-6

Lawndale Park Addition

Ludington Co: Mason MI 49431-

Landholding Agency: GSA

Property Number: 54200540007

Status: Excess

Comment: 0.81 acre—undeveloped

GSA Number: 1-G-MI-537-2

New Mexico

Portion/Medical Center

2820 Ridgecrest

Albuquerque Co: Bernalillo NM 87103-

Landholding Agency: GSA

Property Number: 54200620003

Status: Unutilized

Comment: 7.4 acres—vacant land

GSA Number: 7-GR-NM-04212A

New York

Youngstown Test Annex

Porter Center Road

Porter Co: NY 14174-0189

Landholding Agency: GSA

Property Number: 54200620004

Status: Surplus

Comment: 98.62 overgrown acres with 6 deteriorated buildings, abuts an industrial waste treatment facility

GSA Number: 1-D-NY-0879-1A

Ohio

Plats 9-72, 9-73

Davis Street

Niles Co: OH 44446-

Landholding Agency: GSA

Property Number: 54200530007

Status: Excess

Comment: 12,082 sq. ft., narrow right of way, no utilities

GSA Number: 1-1-OH-826

Pennsylvania

Parcel B

Valley Forge Army Hospital

Schuylkill Township

Phoenixville Co: Cheste PA 19460-

Landholding Agency: GSA

Property Number: 54200610009

Status: Surplus

Comment: 1.172 acres, parking area

GSA Number: 4GRPA0666B

South Dakota

Tract 133

Ellsworth AFB

Box Elder Co: Pennington SD 57706-

Landholding Agency: Air Force

Property Number: 18200310004

Status: Unutilized

Comment: 53.23 acres

Tract 67

Ellsworth AFB

Box Elder Co: Pennington SD 57706-

Landholding Agency: Air Force

Property Number: 18200310005

Status: Unutilized

Comment: 121 acres, bentonite layer in soil, causes movement

Unsuitable Properties

Buildings (by State)

Alaska

Bldg. 15532

Elmendorf AFB

Elmendorf AFB AK 99506-

Landholding Agency: Air Force

Property Number: 18200220001

Status: Unutilized

Reasons: Within airport runway clear zone; Secured Area

Bldg. 8354

Elmendorf AFB

Elmendorf AFB AK 99506-

Landholding Agency: Air Force

Property Number: 18200240001

Status: Unutilized

Reason: Extensive deterioration

Bldg. 11827

Elmendorf AFB

Elmendorf AFB AK 99506-

Landholding Agency: Air Force

Property Number: 18200240002

Status: Unutilized

Reasons: Within 2000 ft. of flammable or explosive material; Secured Area

Bldg. 7537

Elmendorf Air Force Base

Elmendorf AFB AK 99506-

Landholding Agency: Air Force

Property Number: 18200320001

Status: Unutilized

Reason: Extensive deterioration

Bldg. 9340

Elmendorf Air Force Base

Elmendorf AFB AK 99506-

Landholding Agency: Air Force

Property Number: 18200320002

Status: Unutilized

Reason: Extensive deterioration

Bldg. 9342

Elmendorf Air Force Base

Elmendorf AFB AK 99506-

Landholding Agency: Air Force

Property Number: 18200320003

Status: Unutilized

Reason: Extensive deterioration

Bldg. 12737

Elmendorf Air Force Base

Elmendorf AFB AK 99506-

Landholding Agency: Air Force

Property Number: 18200320004

Status: Unutilized

Reason: Extensive deterioration

Bldg. 13251

Elmendorf Air Force Base

Elemendorf AFB AK 99506-

Landholding Agency: Air Force

Property Number: 18200320005

Status: Unutilized

Reason: Extensive deterioration

Bldg. 29453

Elmendorf Air Force Base

Elmendorf AFB AK 99506-

Landholding Agency: Air Force

Property Number: 18200320006

Status: Unutilized

Reason: Extensive deterioration

Bldg. 6527

Elmendorf AFB

Elmendorf AFB AK 99506-

Landholding Agency: Air Force

Property Number: 18200330001

Status: Unutilized

Reason: Extensive deterioration

Bldg. 12739

Elmendorf AFB

Elmendorf AFB AK 99506-

Landholding Agency: Air Force

Property Number: 18200330002

Status: Unutilized

Reason: Extensive deterioration

Bldg. 4314

Elmendorf AFB

Elmendorf AFB AK 99506-

Landholding Agency: Air Force

Property Number: 18200340001

Status: Unutilized

Reason: Extensive deterioration

Bldg. 6527

Elmendorf AFB

Elmendorf AFB AK 99506-

Landholding Agency: Air Force

Property Number: 18200340002

Status: Unutilized

Reason: Extensive deterioration

Bldg. 7541

Elmendorf AFB

Elmendorf AFB AK 99506-

Landholding Agency: Air Force

Property Number: 18200340003

Status: Unutilized

Reason: Extensive deterioration

Bldg. 8111

Elmendorf AFB

Elmendorf AFB AK 99506-

Landholding Agency: Air Force

Property Number: 18200340004

Status: Unutilized

Reason: Extensive deterioration

Bldg. 9489

Elmendorf AFB

Elmendorf AFB AK 99506-

Landholding Agency: Air Force

Property Number: 18200340005

Status: Unutilized

Reason: Extensive deterioration

Bldg. 10547

Elmendorf AFB

Elmendorf AFB AK 99506-

Landholding Agency: Air Force

Property Number: 18200340006

Status: Unutilized

Reason: Extensive deterioration

Bldgs. 3270, 3274, 3278

Elmendorf AFB

Anchorage Co: AK 99506-

Landholding Agency: Air Force

Property Number: 18200630001

Status: Unutilized

Reasons: Within 2000 ft. of flammable or explosive material; Secured Area

California

Bldg. 30101

Vandenberg AFB

Vandenberg Co: Santa Barbara CA 93437-

Landholding Agency: Air Force

Property Number: 18200210019

Status: Unutilized

Reason: Secured Area

Bldgs. 30131, 30709

Vandenberg AFB

Vandenberg Co: Santa Barbara CA 93437-

Landholding Agency: Air Force

Property Number: 18200210020

Status: Unutilized

Reason: Secured Area

Bldgs. 30137, 30701

Vandenberg AFB

Vandenberg Co: Santa Barbara CA 93437-

Landholding Agency: Air Force

Property Number: 18200210021

Status: Unutilized

Reason: Secured Area

Bldg. 30235

Vandenberg AFB

Vandenberg Co: Santa Barbara CA 93437-

Landholding Agency: Air Force

Property Number: 18200210022

Status: Unutilized

Reason: Secured Area

Bldgs. 30238, 30446

Vandenberg AFB

Vandenberg Co: Santa Barbara CA

Landholding Agency: Air Force

Property Number: 18200210023

Status: Unutilized

Reason: Secured Area

Bldgs. 30239, 30444

Vandenberg AFB

Vandenberg Co: Santa Barbara CA 93437-

Landholding Agency: Air Force

Property Number: 18200210024

Status: Unutilized

Reason: Secured Area

Bldgs. 30306, 30335, 30782

Vandenberg AFB

Vandenberg Co: Santa Barbara CA 93437-

Landholding Agency: Air Force

Property Number: 18200210025

Status: Unutilized

Reason: Secured Area

Bldgs. 30339, 30340, 30341

Vandenberg AFB

Vandenberg Co: Santa Barbara CA 93437-

Landholding Agency: Air Force

Property Number: 18200210026

Status: Unutilized

Reason: Secured Area

Bldg. 30447

Vandenberg AFB

Vandenberg Co: Santa Barbara CA 93437-

Landholding Agency: Air Force

Property Number: 18200210027

Status: Unutilized

Reason: Secured Area

Bldg. 30524

Vandenberg AFB

Vandenberg Co: Santa Barbara CA 93437-

Landholding Agency: Air Force

Property Number: 18200210028

Status: Unutilized

Reason: Secured Area

Bldg. 30647

Vandenberg AFB

Vandenberg Co: Santa Barbara CA 93437-

Landholding Agency: Air Force

Property Number: 18200210029

Status: Unutilized

Reason: Secured Area

Bldgs. 30710, 30717

Vandenberg AFB

Vandenberg Co: Santa Barbara CA 93437-

Landholding Agency: Air Force

Property Number: 18200210030

Status: Unutilized

Reason: Secured Area

Bldgs. 30718, 30607

Vandenberg AFB

Vandenberg Co: Santa Barbara CA 93437-

Landholding Agency: Air Force

Property Number: 18200210031

Status: Unutilized

Reason: Secured Area

Bldgs. 30722, 30735

Vandenberg AFB

Vandenberg Co: Santa Barbara CA 93437-

Landholding Agency: Air Force

Property Number: 18200210032

Status: Unutilized

Reason: Secured Area

Bldgs. 30775, 30777

Vandenberg AFB

Vandenberg Co: Santa Barbara CA 93437-

Landholding Agency: Air Force

Property Number: 18200210033

Status: Unutilized

Reason: Secured Area

Bldgs. 30830, 30837

Vandenberg AFB

Vandenberg Co: Santa Barbara CA 93437-

Landholding Agency: Air Force

Property Number: 18200210034

Status: Unutilized

Reason: Secured Area

Bldgs. 30839, 30844, 30854

Vandenberg AFB

Vandenberg Co: Santa Barbara CA 93437-

Landholding Agency: Air Force

Property Number: 18200210035

Status: Unutilized

Reason: Secured Area

Bldg. 06522

Vandenberg AFB

Vandenberg AFB Co: Santa Barbara CA 93437-

Landholding Agency: Air Force

Property Number: 18200330004

Status: Unutilized

Reasons: Secured Area; Extensive deterioration

Bldg. 98

Vandenberg AFB

Oak Mountain Annex

Santa Barbara Co: CA 93437-

Landholding Agency: Air Force

Property Number: 18200430001

Status: Unutilized

Reasons: Secured Area; Extensive deterioration

Bldg. 488

Vandenberg AFB

Santa Barbara Co: CA 93437-

Landholding Agency: Air Force

Property Number: 18200430002

Status: Unutilized

Reasons: Secured Area; Extensive deterioration

Bldg. 535

Vandenberg AFB

Santa Barbara Co: CA 93437-

Landholding Agency: Air Force

Property Number: 18200430003

Status: Unutilized

Reasons: Secured Area; Extensive deterioration

Bldgs. 734, 738-739

Vandenberg AFB

Santa Barbara Co: CA 93437-

Landholding Agency: Air Force

Property Number: 18200430004

Status: Unutilized

Reason: Secured Area

Bldg. 946

Vandenberg AFB

Santa Barbara Co: CA 93437-

Landholding Agency: Air Force

Property Number: 18200430005

Status: Unutilized

Reason: Secured Area

Bldgs. 1200, 1201

Vandenberg AFB

Santa Barbara Co: CA 93437-

Landholding Agency: Air Force

Property Number: 18200430006

Status: Unutilized

Reasons: Secured Area

Extensive deterioration

Bldg. 1205

Vandenberg AFB

Santa Barbara Co: CA 93437-

Landholding Agency: Air Force

Property Number: 18200430007

Status: Unutilized

Reasons: Secured Area; Extensive deterioration

Bldg. 719

Vandenberg AFB

Lompoc Co: Santa Barbara CA 93437-

Landholding Agency: Air Force

Property Number: 18200510001

Status: Unutilized

Reason: Secured Area

Bldg. 725

Vandenberg AFB

Lompoc Co: Santa Barbara CA 93437-

Landholding Agency: Air Force

Property Number: 18200510002

Status: Unutilized

Reason: Secured Area

Bldg. 729

Vandenberg AFB

Lompoc Co: Santa Barbara CA 93437-

Landholding Agency: Air Force

Property Number: 18200510003

Status: Unutilized

Reason: Secured Area

Bldg. 734

Vandenberg AFB

Lompoc Co: Santa Barbara CA 93437-

Landholding Agency: Air Force

Property Number: 18200510004

Status: Unutilized

Reason: Secured Area

Bldg. 737

Vandenberg AFB

Lompoc Co: Santa Barbara CA 93437-

Landholding Agency: Air Force

Property Number: 18200510005

Status: Unutilized

Reason: Secured Area

Bldg. 742

Vandenberg AFB

Lompoc Co: Santa Barbara CA 93437-

Landholding Agency: Air Force

Property Number: 18200510006

Status: Unutilized

Reason: Secured Area

Bldg. 746

Vandenberg AFB

Lompoc Co: Santa Barbara CA 93437-

Landholding Agency: Air Force

Property Number: 18200510007

Status: Unutilized

Reason: Secured Area

Bldg. 11237

Vandenberg AFB

Lompoc Co: Santa Barbara CA 93437-

Landholding Agency: Air Force

Property Number: 18200520001

Status: Unutilized

Reason: Secured Area

Bldgs. 01423, 01428

Edwards AFB

Kern Co: CA

Landholding Agency: Air Force

Property Number: 18200540001

Status: Unutilized

Reasons: Within 2000 ft. of flammable or explosive material; Within airport runway clear zone; Secured Area

Structure 2600

Edwards AFB

Kern Co: CA -

Landholding Agency: Air Force

Property Number: 18200540002

Status: Unutilized

Reason: Secured Area

Structure 08672

Edwards AFB

Kern Co: CA

Landholding Agency: Air Force

Property Number: 18200540003

Status: Unutilized

Reasons: Within 2000 ft. of flammable or explosive material; Within airport runway clear zone; Secured Area

Bldgs. 5001 thru 5082

Edwards AFB

Area A

Los Angeles Co: CA 93524-

Landholding Agency: Air Force

Property Number: 18200620002

Status: Unutilized

Reasons: Secured Area; Extensive deterioration

Garages 25001 thru 25100

Edwards AFB

Area A

Los Angeles Co: CA 93524-

Landholding Agency: Air Force

Property Number: 18200620003

Status: Unutilized

Reasons: Secured Area; Extensive deterioration

Park Village 3

Cow Creek

Death Valley Co: Inyo CA 92328-

Landholding Agency: Interior

Property Number: 61200630002

Status: Unutilized

Reason: Extensive deterioration

Park Village 42

Cow Creek

Death Valley Co: Inyo CA 92328-

Landholding Agency: Interior

Property Number: 61200630003

Status: Unutilized

Reason: Extensive deterioration

Bldgs. 2-8, 3-10

Naval Base

Port Mugu Co: Ventura CA 93043-

Landholding Agency: Navy

Property Number: 77200630009

Status: Unutilized

Reasons: Secured Area; Extensive deterioration

Bldgs. 6-11, 6-12, 6-819

Naval Base

Port Mugu Co: Ventura CA 93043-

Landholding Agency: Navy

Property Number: 77200630010

Status: Unutilized

Reasons: Secured Area; Extensive deterioration

Bldg. 85

Naval Base

Port Mugu Co: Ventura CA 93043-

Landholding Agency: Navy

Property Number: 77200630011

Status: Unutilized

Reasons: Secured Area; Extensive deterioration

Bldgs. 120, 123

Naval Base

Port Mugu Co: Ventura CA 93043-

Landholding Agency: Navy

Property Number: 77200630012

Status: Unutilized

Reasons: Secured Area; Extensive deterioration

Bldg. 724

Naval Base

Port Mugu Co: Ventura CA 93043-

Landholding Agency: Navy

Property Number: 77200630013

Status: Unutilized

Reasons: Secured Area; Extensive deterioration

Bldg. 764

Naval Base

Port Mugu Co: Ventura CA 93043-

Landholding Agency: Navy

Property Number: 77200630014

Status: Unutilized

Reason: Secured Area

Bldg. 115

Naval Base

Port Hueneme Co: Ventura CA 93042-

Landholding Agency: Navy

Property Number: 77200630015

Status: Unutilized

Reasons: Secured Area; Extensive deterioration

Bldg. 323

Naval Base

Port Hueneme Co: Ventura CA 93042-

Landholding Agency: Navy

Property Number: 77200630016

Status: Unutilized

Reasons: Secured Area; Extensive deterioration

Bldg. 488

Naval Base

Port Hueneme Co: Ventura CA 93042-

Landholding Agency: Navy

Property Number: 77200630017

Status: Unutilized

Reasons: Secured Area; Extensive deterioration

Bldg. 842

Naval Base

Port Hueneme Co: Ventura CA 93042-

Landholding Agency: Navy

Property Number: 77200630018

Status: Unutilized

Reasons: Secured Area; Extensive deterioration

Bldg. 927

Naval Base

Port Hueneme Co: Ventura CA 93042-

Landholding Agency: Navy

Property Number: 77200630019

Status: Unutilized

Reasons: Secured Area; Extensive deterioration

Bldg. 1150

Naval Base

Port Hueneme Co: Ventura CA 93042-

Landholding Agency: Navy

Property Number: 77200630020

Status: Unutilized

Reasons: Secured Area; Extensive deterioration

Bldg. 1361

Naval Base

Port Hueneme Co: Ventura CA 93042-

Landholding Agency: Navy

Property Number: 77200630021

Status: Unutilized

Reasons: Secured Area; Extensive deterioration

Colorado

Bldg. 105

Peterson AFB

Colorado Springs Co: El Paso CO 80914-

Landholding Agency: Air Force

Property Number: 18200310003

Status: Underutilized

Reasons: Within airport runway clear zone; Secured Area

Bldg. 106

Peterson AFB

Colorado Springs Co: El Paso CO 80914-8090

Landholding Agency: Air Force

Property Number: 18200340010

Status: Underutilized

Reasons: Within 2000 ft. of flammable or explosive material; Within airport runway clear zone; Secured Area

Bldg. 107

Peterson AFB

Colorado Springs Co: El Paso CO 80914-8090

Landholding Agency: Air Force

Property Number: 18200340011

Status: Underutilized

Reasons: Within 2000 ft. of flammable or explosive material; Within airport runway clear zone; Secured Area

Bldg. 108

Peterson AFB

Colorado Springs Co: El Paso CO 80914-8090

Landholding Agency: Air Force

Property Number: 18200340012

Status: Underutilized

Reasons: Within 2000 ft. of flammable or explosive material; Within airport runway clear zone; Secured Area

District of Columbia

Bldg. 396

Naval Support Facility

Anacostia Annex Co: DC 20373-

Landholding Agency: Navy

Property Number: 77200630008

Status: Unutilized

Reasons:

Within 2000 ft. of flammable or explosive material; Secured Area

Florida

Bldg. 1345

Cape Canaveral AFS

Cape Canaveral Co: Brevard FL 32907-

Landholding Agency: Air Force

Property Number: 18200210016

Status: Unutilized

Reasons: Within 2000 ft. of flammable or explosive material; Secured Area

Bldg. 55122

Cape Canaveral AFS

Cape Canaveral Co: Brevard FL 32907-

Landholding Agency: Air Force

Property Number: 18200210018

Status: Unutilized

Reasons: Within 2000 ft. of flammable or explosive material; Secured Area

Bldg. 1705

Cape Canaveral AFS

Cape Canaveral Co: Brevard FL 32907-

Landholding Agency: Air Force

Property Number: 18200330005

Status: Unutilized

Reasons: Within 2000 ft. of flammable or explosive material; Secured Area Extensive deterioration

Bldg. 70500 V.I.B.

Cape Canaveral

Brevard Co: FL 32907-

Landholding Agency: Air Force

Property Number: 18200510010

Status: Underutilized

Reason: Secured Area

Tract 104-03

Canaveral Natl Seashore

Smyrna Beach Co: FL -

Landholding Agency: Interior

Property Number: 61200630004

Status: Excess

Reason: Extensive deterioration

Tract 104-22

Canaveral Natl Seashore

Smyrna Beach Co: FL -

Landholding Agency: Interior

Property Number: 61200630005

Status: Excess

Reason: Extensive deterioration

Bldg. 834

Naval Air Station

Pensacola Co: Escambia FL 32508-

Landholding Agency: Navy

Property Number: 77200630022

Status: Unutilized

Reason: Extensive deterioration

Bldg. 2658

Naval Air Station

Pensacola Co: Escambia FL 32508-

Landholding Agency: Navy

Property Number: 77200630023

Status: Unutilized

Reason: Extensive deterioration

Bldg. 3483

Naval Air Station

Pensacola Co: Escambia FL 32508-

Landholding Agency: Navy

Property Number: 77200630024

Status: Unutilized

Reason: Extensive deterioration

Bldg. 6144

Naval Air Station

Pensacola Co: Escambia FL 32508-

Landholding Agency: Navy

Property Number: 77200630025

Status: Unutilized

Reason: Extensive deterioration

Bldg. F11

Naval Air Station

Key West Co: FL 33040-

Landholding Agency: Navy

Property Number: 77200630026

Status: Unutilized

Reasons: Secured Area; Extensive deterioration

Bldgs. A225, A409

Naval Air Station

Key West Co: FL 33040-

Landholding Agency: Navy

Property Number: 77200630027

Status: Unutilized

Reasons: Secured Area; Extensive deterioration

Bldg. A515

Naval Air Station

Key West Co: FL 33040-

Landholding Agency: Navy

Property Number: 77200630028

Status: Unutilized

Reasons: Secured Area; Extensive deterioration

Bldg. A635

Naval Air Station

Key West Co: FL 33040-

Landholding Agency: Navy

Property Number: 77200630029

Status: Unutilized

Reasons: Secured Area; Extensive deterioration

Bldgs. A993, A994

Naval Air Station

Key West Co: FL 33040-

Landholding Agency: Navy

Property Number: 77200630030

Status: Unutilized

Reasons: Secured Area; Extensive deterioration

Bldg. A1068

Naval Air Station

Key West Co: FL 33040-

Landholding Agency: Navy

Property Number: 77200630031

Status: Unutilized

Reasons: Secured Area; Extensive deterioration

Bldg. A4021

Naval Air Station

Key West Co: FL 33040-

Landholding Agency: Navy

Property Number: 77200630032

Status: Unutilized

Reasons: Secured Area; Extensive deterioration

Bldg. 4080

Naval Air Station

Key West Co: FL 33040-

Landholding Agency: Navy

Property Number: 77200630033

Status: Unutilized

Reasons: Secured Area; Extensive deterioration

Georgia

Bldg. 340

Savannah IAP

Garden City Co: Chatham GA 31418-

Landholding Agency: Air Force

Property Number: 18200430010

Status: Excess

Reason: Secured Area

Federal Records Center

1557 St. Joseph Ave.

East Point Co: GA 33303-44

Location: GA0000AA (GA0501AA, GA0502AA, GA503AA)

Landholding Agency: GSA

Property Number: 54200630008

Status: Excess

Reason: Within 2000 ft. of flammable or explosive material

GSA Number: 4-G-GA-06402

Hawaii

Bldg. 503

Bellows AFS

Bellows AFS HI

Landholding Agency: Air Force

Property Number: 18200330007

Status: Unutilized

Reasons: Secured Area; Extensive deterioration

Bldg. 907

Hickam AFB

Hickam AFB HI

Landholding Agency: Air Force

Property Number: 18200330009

Status: Unutilized

Reasons: Secured Area; Extensive deterioration

Bldg. 954

Hickam AFB

Hickam AFB HI

Landholding Agency: Air Force

Property Number: 18200330010

Status: Unutilized

Reasons: Secured Area; Extensive deterioration

Bldg. 980

Hickam AFB

Hickam AFB HI

Landholding Agency: Air Force

Property Number: 18200330011

Status: Unutilized

Reason: Secured Area

Bldg. 992

Hickam AFB

Hickam AFB HI

Landholding Agency: Air Force

Property Number: 18200330012

Status: Unutilized

Reason: Secured Area

Bldg. 1035

Hickam AFB

Hickam AFB HI

Landholding Agency: Air Force

Property Number: 18200330013

Status: Unutilized

Reason: Secured Area

Bldgs. 1709, 1721

Hickam AFB

Hickam AFB HI

Landholding Agency: Air Force

Property Number: 18200330014

Status: Unutilized

Reasons: Secured Area; Extensive deterioration

Bldg. 2041

Hickam AFB

Hickam AFB HI

Landholding Agency: Air Force

Property Number: 18200330015

Status: Unutilized

Reasons: Secured Area; Extensive deterioration

Bldg. 2044

Hickam AFB

Hickam AFB HI

Landholding Agency: Air Force

Property Number: 18200330016

Status: Unutilized

Reasons: Secured Area; Extensive deterioration

Bldg. 2104

Hickam AFB

Hickam AFB HI

Landholding Agency: Air Force

Property Number: 18200330017

Status: Unutilized

Reason: Secured Area

Bldg. 3018

Hickam AFB

Hickam AFB HI

Landholding Agency: Air Force

Property Number: 18200330018

Status: Unutilized

Reasons: Secured Area; Extensive deterioration

Bldg. 3202

Hickam AFB

Hickam AFB HI

Landholding Agency: Air Force

Property Number: 18200330019

Status: Unutilized

Reasons: Within 2000 ft. of flammable or explosive material; Secured Area; Extensive deterioration

Bldgs. 3338, 3356

Hickam AFB

Hickam AFB HI

Landholding Agency: Air Force

Property Number: 18200330020

Status: Unutilized

Reasons: Secured Area; Extensive deterioration

Bldg. 3432

Hickam AFB

Hickam AFB HI

Landholding Agency: Air Force

Property Number: 18200330021

Status: Unutilized

Reasons: Secured Area; Extensive deterioration

Bldg. 3375

Hickam AFB

Hickam AFB HI

Landholding Agency: Air Force

Property Number: 18200330031

Status: Unutilized

Reason: Secured Area

Bldgs. 743, 1002, 6100

Johnston Atoll Airfield

Honolulu HI

Landholding Agency: Air Force

Property Number: 18200340013

Status: Unutilized

Reasons: Within 2000 ft. of flammable or explosive material; Within airport runway clear zone; Extensive deterioration

Bldgs. 1091, 1092

Hickam AFB

Hickam Co: HI

Landholding Agency: Air Force

Property Number: 18200510011

Status: Unutilized

Reasons: Within airport runway clear zone; Secured Area; Extensive deterioration

Bldg. 1864

Hickam AFB

Hickam Co: HI

Landholding Agency: Air Force

Property Number: 18200510012

Status: Unutilized

Reasons: Secured Area; Extensive deterioration

Bldg. 2074

Hickam AFB

Hickam Co: HI

Landholding Agency: Air Force

Property Number: 18200510013

Status: Unutilized

Reasons: Secured Area; Extensive deterioration

Bldg. 2174

Hickam AFB

Hickam Co: HI

Landholding Agency: Air Force

Property Number: 18200510014

Status: Unutilized

Reasons: Within 2000 ft. of flammable or explosive material; Secured Area

Bldg. 3426

Hickam AFB

Hickam Co: HI

Landholding Agency: Air Force

Property Number: 18200510015

Status: Unutilized

Reasons: Floodway; Secured Area; Extensive deterioration

Bldg. 3431

Hickam AFB

Hickam Co: HI

Landholding Agency: Air Force

Property Number: 18200510016

Status: Unutilized

Reasons: Floodway; Secured Area; Extensive deterioration

Bldgs. 12, 14

Kokee AFB

Kokee Co: HI

Landholding Agency: Air Force

Property Number: 18200510017

Status: Unutilized

Reasons: Secured Area; Extensive deterioration

Bldg. 3389

Hickam AFB

Hickam Co: HI

Landholding Agency: Air Force

Property Number: 18200520002

Status: Unutilized

Reasons: Secured Area; Extensive deterioration

Bldg. 4027

Hickam AFB

Hickam Co: HI

Landholding Agency: Air Force

Property Number: 18200530003

Status: Unutilized

Reasons: Secured Area; Extensive deterioration

Idaho

Bldg. 1328

Mountain Home AFB

Mountain Home Co: Elmore ID 83648-

Landholding Agency: Air Force

Property Number: 18200240003

Status: Excess

Reason: Within 2000 ft. of flammable or explosive material

Illinois

Bldg. 3101

Capital MAP, DCFT

Springfield Co: Sangamon IL 62707-

Landholding Agency: Air Force

Property Number: 18200520003

Status: Excess

Reasons: Within 2000 ft. of flammable or explosive material; Secured Area

Bldg. 301

Argonne National Laboratory

Argonne Co: IL 60439-

Landholding Agency: Energy

Property Number: 41200630005

Status: Unutilized

Reason: Extensive deterioration

Iowa

Bldg. 902

185ARW Air Base

Sioux City Co: Woodbury IA 51111-

Landholding Agency: Air Force

Property Number: 18200630002

Status: Excess

Reasons: Within 2000 ft. of flammable or explosive material; Secured Area

Kansas

Bldgs. 2031, 2029, 2025, 2023

McConnell AFB

Sedgwick Co: KS 67210-

Landholding Agency: Air Force

Property Number: 18200630003

Status: Unutilized

Reason: Secured Area

Bldgs. 2033, 2018, 2016

McConnell AFB

Sedgwick Co: KS 67210-

Landholding Agency: Air Force

Property Number: 18200630004

Status: Unutilized

Reason: Secured Area

Bldgs. 2039, 2036

McConnell AFB

Sedgwick Co: KS 67210-

Landholding Agency: Air Force

Property Number: 18200630005

Status: Unutilized

Reason: Secured Area

Bldgs. 2041, 2027, 2021

McConnell AFB

Sedgwick Co: KS 67210-

Landholding Agency: Air Force

Property Number: 18200630006

Status: Unutilized

Reason: Secured Area

Bldg. 2507

McConnell AFB

Sedgwick Co: KS 67210-

Landholding Agency: Air Force

Property Number: 18200630007

Status: Unutilized

Reason: Secured Area

Montana

Bldg. 547

Malmstrom AFB

Malmstrom AFB Co: Cascade MT 59402-

Landholding Agency: Air Force

Property Number: 18200240004

Status: Unutilized

Reasons: Within 2000 ft. of flammable or explosive material; Secured Area

Bldg. 1084

Malmstrom AFB

Malmstrom AFB Co: Cascade MT 59402-

Landholding Agency: Air Force

Property Number: 18200240006

Status: Unutilized

Reasons: Within 2000 ft. of flammable or explosive material; Secured Area

Bldg. 2025

Malmstrom AFB

Malmstrom AFB Co: Cascade MT 59402-

Landholding Agency: Air Force

Property Number: 18200240007

Status: Unutilized

Reason: Secured Area

Bldg. 1700

Malmstrom AFB

Malmstrom AFB Co: Cascade MT 59402-

Landholding Agency: Air Force

Property Number: 18200330022

Status: Unutilized

Reasons: Within 2000 ft. of flammable or explosive material; Secured Area; Extensive deterioration

Bldg. 546

Malmstrom AFB

Cascade Co: MT 59402-

Landholding Agency: Air Force

Property Number: 18200520007

Status: Unutilized

Reasons: Within 2000 ft. of flammable or explosive material; Secured Area

Bldg. 1708

Malmstrom AFB

Cascade Co: MT 59402-

Landholding Agency: Air Force

Property Number: 18200610007

Status: Unutilized

Reasons: Within 2000 ft. of flammable or explosive material; Secured Area

Bldgs. 26, 64

Great Falls IAP

Cascade Co: MT 59404-

Landholding Agency: Air Force

Property Number: 18200630008

Status: Underutilized

Reasons: Within 2000 ft. of flammable or explosive material; Secured Area

New Mexico

Bldg. 14170

Cannon AFB

Cannon AFB Co: Curry NM

Landholding Agency: Air Force

Property Number: 18200230010

Status: Unutilized

Reason: Secured Area

Bldg. 14240

Cannon AFB

Cannon AFB NM

Landholding Agency: Air Force

Property Number: 18200230011

Status: Unutilized

Reason: Secured Area

Bldg. 14270

Cannon AFB

Cannon AFB Co: Curry NM

Landholding Agency: Air Force

Property Number: 18200230012

Status: Unutilized

Reason: Secured Area

Bldg. 14330

Cannon AFB

Cannon AFB Co: Curry NM

Landholding Agency: Air Force

Property Number: 18200230013

Status: Unutilized

Reason: Secured Area

Bldg. 14350

Cannon AFB

Cannon AFB Co: Curry NM

Landholding Agency: Air Force

Property Number: 18200230014

Status: Unutilized

Reason: Secured Area

Bldg. 14370

Cannon AFB

Cannon AFB Co: Curry NM

Landholding Agency: Air Force

Property Number: 18200230015

Status: Unutilized

Reason: Secured Area

Bldg. 14390

Cannon AFB

Cannon AFB Co: Curry NM

Landholding Agency: Air Force

Property Number: 18200230016

Status: Unutilized

Reason: Secured Area

Bldg. 524

Holloman AFB

Otero NM 88330-

Landholding Agency: Air Force

Property Number: 18200330024

Status: Unutilized

Reasons: Within 2000 ft. of flammable or explosive material; Secured Area

Bldg. 1076

Holloman AFB

Otero NM 88330-

Landholding Agency: Air Force

Property Number: 18200330025

Status: Unutilized

Reasons: Secured Area; Extensive deterioration

Bldg. 1190

Holloman AFB

Otero NM 88330-

Landholding Agency: Air Force

Property Number: 18200330026

Status: Unutilized

Reasons: Secured Area; Extensive deterioration

Bldg. 1264

Holloman AFB

Otero NM 88330-

Landholding Agency: Air Force

Property Number: 18200330027

Status: Unutilized

Reason: Secured Area

Bldg. 615

Kirtland AFB

Kirtland AFB Co: Bernalillo NM 87117-5663

Landholding Agency: Air Force

Property Number: 18200340014

Status: Unutilized

Reasons: Secured Area; Extensive deterioration

Bldg. 736

Kirtland AFB

Kirtland AFB Co: Bernalillo NM 87117-5663

Landholding Agency: Air Force

Property Number: 18200340015

Status: Unutilized

Reason: Secured Area

Bldg. 1013

Kirtland AFB

Kirtland AFB Co: Bernalillo NM 87117-5663

Landholding Agency: Air Force

Property Number: 18200340016

Status: Unutilized

Reason: Secured Area

Bldg. 20419

Kirtland AFB

Kirtland AFB Co: Bernalillo NM 87117-5663

Landholding Agency: Air Force

Property Number: 18200340017

Status: Unutilized

Reason: Secured Area

Bldgs. 29014, 29016, 29017

Kirtland AFB

Kirtland AFB Co: Bernalillo NM 87117-5663

Landholding Agency: Air Force

Property Number: 18200340018

Status: Unutilized

Reasons: Secured Area; Extensive deterioration

Bldg. 30102

Kirtland AFAB

Kirtland AFB Co: Bernalillo NM 87117-5663

Landholding Agency: Air Force

Property Number: 18200340019

Status: Unutilized

Reason: Secured Area

Bldgs. 37532, 37534

Kirtland AFB

Kirtland AFB Co: Bernalillo NM 87117-5663

Landholding Agency: Air Force

Property Number: 18200340020

Status: Unutilized

Reasons: Secured Area; Extensive deterioration

Bldg. 57005

Kirtland AFB

Kirtland AFB Co: Bernalillo NM 87117-5663

Landholding Agency: Air Force

Property Number: 18200340021

Status: Unutilized

Reasons: Secured Area; Extensive deterioration

Bldgs. 57006, 57013

Kirtland AFB

Kirtland AFB Co: Bernalillo NM 87117-5663

Landholding Agency: Air Force

Property Number: 18200340022

Status: Unutilized

Reasons: Secured Area; Extensive deterioration

Bldgs. 10, 11

Holloman AFB

Holloman Co: Otero NM 88330-

Landholding Agency: Air Force

Property Number: 18200410005

Status: Unutilized

Reason: Secured Area

Bldgs. 15000, 15010, 15020

Cannon AFB

Curry Co: NM 88101-

Landholding Agency: Air Force

Property Number: 18200630009

Status: Unutilized

Reason: Secured Area

Bldgs. 15030, 15040, 15060

Cannon AFB

Curry Co: NM 88101-

Landholding Agency: Air Force

Property Number: 18200630010

Status: Unutilized

Reason: Secured Area

Bldgs. 15070, 15080, 15090

Cannon AFB

Curry Co: NM 88101-

Landholding Agency: Air Force

Property Number: 18200630011

Status: Unutilized

Reason: Secured Area

Bldgs. 15100, 15110, 15120

Cannon AFB

Curry Co: NM 88101-

Landholding Agency: Air Force

Property Number: 18200630012

Status: Unutilized

Reason: Secured Area

Bldgs. 15130, 15140, 15160

Cannon AFB

Curry Co: NM 88101-

Landholding Agency: Air Force

Property Number: 18200630013

Status: Unutilized

Reason: Secured Area

Bldgs. 15170, 15180, 15190

Cannon AFB

Curry Co: NM 88101-

Landholding Agency: Air Force

Property Number: 18200630014

Status: Unutilized

Reason: Secured Area

Bldgs. 15200, 15210, 15220

Cannon AFB

Curry Co: NM 88101-

Landholding Agency: Air Force

Property Number: 18200630015

Status: Unutilized

Reason: Secured Area

Bldgs. 15230, 15240, 15250

Cannon AFB

Curry Co: NM 88101-

Landholding Agency: Air Force

Property Number: 18200630016

Status: Unutilized

Reason: Secured Area

4 Bldgs.

Cannon AFB

15260, 15270, 15280, 15290

Curry Co: NM 88101-

Landholding Agency: Air Force

Property Number: 18200630017

Status: Unutilized

Reason: Secured Area

4 Bldgs.

Cannon AFB

15300, 15310, 15320, 15330

Curry Co: NM 88101-

Landholding Agency: Air Force

Property Number: 18200630018

Status: Unutilized

Reason: Secured Area

New York

6 UG Missle Silos

Youngstown Test Annex

Porter Co: Niagara NY

Landholding Agency: Air Force

Property Number: 18200220003

Status: Unutilized

Reason: Extensive deterioration

Bldg. 100

Youngstown Test Annex

Porter Co: Niagara NY

Landholding Agency: Air Force

Property Number: 18200220004

Status: Unutilized

Reason: Extensive deterioration

Bldg. 101

Youngstown Test Annex

Porter Co: Niagara NY

Landholding Agency: Air Force

Property Number: 18200220005

Status: Unutilized

Reason: Extensive deterioration

Bldg. 104

Youngstown Test Annex

Porter Co: Niagara NY

Landholding Agency: Air Force

Property Number: 18200220006

Status: Unutilized

Reason: Extensive deterioration

Bldg. 107

Youngstown Test Annex

Porter Co: Niagara NY

Landholding Agency: Air Force

Property Number: 18200220007

Status: Unutilized

Reason: Extensive deterioration

Bldg. 109

Youngstown Test Annex

Porter Co: Niagara NY

Landholding Agency: Air Force

Property Number: 18200220008

Status: Unutilized

Reason: Extensive deterioration

Bldg. 116

Youngstown Test Annex

Porter Co: Niagara NY

Landholding Agency: Air Force

Property Number: 18200220009

Status: Unutilized

Reason: Extensive deterioration

South Carolina

Bldg. 277

McEntire Air Natl Station

Eastover Co: Richland SC 29044-

Landholding Agency: Air Force

Property Number: 18200530008

Status: Unutilized

Reasons: Secured Area; Extensive deterioration

Building

N. Charleston Training Annex

N. Charleston Co: SC 29404-

Landholding Agency: Air Force

Property Number: 18200540004

Status: Excess

Reason: Extensive deterioration

Bldgs. B323, B324

McEntire Air Natl Guard

Eastover Co: Richland SC 29044-

Landholding Agency: Air Force

Property Number: 18200540005

Status: Unutilized

Reason: Extensive deterioration

South Dakota

Bldg. 6000

Ellsworth AFB

Meade Co: SD 57706-

Landholding Agency: Air Force

Property Number: 18200510021

Status: Underutilized

Reason: Secured Area

Bldgs. 7437, 7513, 7616

Ellsworth AFB

Meade Co: SD 57706-

Landholding Agency: Air Force

Property Number: 18200530009

Status: Unutilized

Reason: Secured Area

Bldg. 7219

Ellsworth AFB

Meade Co: SD 57706-

Landholding Agency: Air Force

Property Number: 18200540006

Status: Unutilized

Reason: Secured Area

Tennessee

Facility 00721

Nashville IAP

Nashville Co: Davidson TN 37217-

Landholding Agency: Air Force

Property Number: 18200630019

Status: Underutilized

Reason: Within 2000 ft. of flammable or explosive material

Texas

Bldg. 1307

Hensley Field ANG Station

Dallas TX 75211-9820

Landholding Agency: Air Force

Property Number: 18200330030

Status: Excess

Reason: Extensive deterioration

Bldg. B1274

Ellington Field

Houston Co: TX 77034-5586

Landholding Agency: Air Force

Property Number: 18200540007

Status: Unutilized

Reasons: Secured Area; Extensive deterioration

Federal Center

Bldgs. 1-4, 40

501 West Felix Street

Fort Worth Co: Tarrant TX 76115-

Landholding Agency: GSA

Property Number: 54200610002

Status: Surplus

Reason: Extensive deterioration

GSA Number : 7-G-TX-07672

Helium Plant

10001 Interchange 552

Amarillo Co: Potter TX 79106-

Landholding Agency: GSA

Property Number: 54200620020

Status: Surplus

Reason: Extensive deterioration

GSA Number: 7-I-TX-0772-1

Naval Weapon Industrial

Reserve Plant

9314 East Jefferson St.

Dallas Co: TX 75211-

Landholding Agency: GSA

Property Number: 54200630009

Status: Surplus

Reasons: Within 2000 ft. of flammable or explosive material; Floodway

GSA Number : 7-N-TX-0846

Wyoming

Bldg. 360

F.E. Warren AFB

Cheyenne Co: Laramie WY 82005-5000

Landholding Agency: Air Force

Property Number: 18200240013

Status: Unutilized

Reasons: Secured Area; Extensive deterioration

Bldg. 354

F.E. Warren AFB

Laramie Co: WY 820057-

Landholding Agency: Air Force

Property Number: 18200510022

Status: Underutilized

Reason: Secured Area

[FR Doc. 06-7473 Filed 9-7-06; 8:45 am]

BILLING CODE 4210-67-P